DEPARTMENT OF THE INTERIOR

Bureau of Indian Affairs

[201D0102DR/DS5A300000/DR.5A311.IA000118]

Tribal Energy Development Capacity (TEDC) Grant; Solicitation of Proposals

AGENCY: Bureau of Indian Affairs, Interior.

ACTION: Notice.

SUMMARY: The Secretary of the Interior (Secretary), through the Division of Energy and Mineral Development (DEMD), Office of Indian Energy and Economic Development (IEED), is soliciting grant proposals from federally recognized Indian Tribes to build Tribal capacity for energy resource regulation and management under the Tribal Energy Development Capacity (TEDC) grant program.

DATES: Applications will be accepted until 11:59 p.m. EST on September 1, 2020.

ADDRESSES: Email applications to ieedgrants@bia.gov in accordance with the directions at Step 4 of this notice.

FOR FURTHER INFORMATION CONTACT: Mr. Payton Batliner, Economic Development Specialist, Division of Energy and Mineral Development, 13922 Denver West Pkwy., Suite 200, Lakewood, CO 80401; telephone: (720) 999-1414; email: payton.batliner@bia.gov.

SUPPLEMENTARY INFORMATION:

I. General Information

II. Number of Projects Funded

III. Background

IV. Eligibility for Funding

V. Who May Perform Feasibility Studies Funded by TEDC Grants

VI. Applicant Procurement Procedures

VII. Limitations

VIII. TEDC Application Guidance

IX. Review and Selection Process

X. Evaluation Criteria

XI. Transfer of Funds

XII. Reporting Requirements for Award Recipients

XIII. Conflicts of Interest

XIV. Questions and Requests for IEED Assistance

XV. Separate Document(s)

XVI. Paperwork Reduction Act

XVII. Authority

I. General Information

Award Ceiling: 1,000,000.

Award Floor: 10,000.

CFDA Number: 15.148.

Cost Sharing or Matching Requirement: No.

Number of Awards: 15.

Category: Energy and Minerals.

II. Number of Projects Funded

DEMD anticipates award of approximately fifteen (15) grants under this announcement ranging in value from approximately $10,000 to $1,000,000. The program can fund projects only one year at a time. DEMD will use a competitive evaluation process based on criteria described in section X of this notice.

III. Background

DEMD administers the TEDC grant program. This solicitation seeks proposals for increasing the technical capacity of federally recognized Tribes to manage and regulate their energy resources. The energy project(s) for which the applicant seeks to build Tribal capacity can be existing or planned, Tribally owned or privately owned.

Capacity developing activities include, but are not limited to:

• Establishment of organizational structure(s) and/or business entity structure(s) capable of engaging in commercial energy development or management activities, including leasing property, meeting lending requirements, entering into standard business contracts, and forming joint venture partnerships;

• Establishing Tribal business charters under Federal law; corporations formed under Federal, State or Tribal incorporation codes; and Tribal utility authorities under Federal, State or Tribal codes;

• Development or enhancement of Tribal policies; enactment of Tribal regulations for leasing of surface land for energy development pursuant to the HEARTH Act; establishment of legal infrastructure for business formation; enactment of ordinances to regulate or develop energy resources; and adoption of a secured transactions code or a memorandum of understanding, compact, or letter of intent with the State to register liens attached pursuant to such a code.

The funding periods and amounts referenced in this solicitation are subject to the availability of funds at the time of award, as well as the Department of the Interior (DOI) and Indian Affairs priorities at the time of the award. Neither DOI nor Indian Affairs will be held responsible for proposal or application preparation costs. Publication of this solicitation does not obligate DOI or Indian Affairs to award any specific grant or to obligate all or any part of available funds. Future funding is subject to the availability of appropriations and cannot be guaranteed. DOI or Indian Affairs may cancel or withdraw this solicitation at any time.

IV. Eligibility for Funding

Only Indian Tribes, as defined at 25 U.S.C. 5304(e), are eligible to receive TEDC grants. Under that statutory definition, eligible entities include any Indian Tribe, band, nation, or other organized group or community, including any Alaska Native village or regional or village corporation as defined in or established pursuant to the Alaska Native Claims Settlement Act, 43 U.S.C. 1601 et seq., which is recognized as eligible for the special programs and services provided by the United States to Indians because of their status as Indians. Indian Tribes are referred to using the term “Tribe” throughout this notice.

V. Who May Perform Studies Funded by TEDC Grants

The applicant determines who will conduct its study. An applicant has several choices, including but not limited to:

• Universities and colleges;

• Private consulting firms; or

• Non-academic, non-profit entities.

VI. Applicant Procurement Procedures

The applicant is subject to the procurement standards in 2 CFR 200.318 through 200.326. In accordance with 2 CFR 200.318, an applicant must use its own documented procurement procedures which reflect Tribal laws and regulations, provided that the procurements conform to applicable Federal law and standards identified in Part 2 of the Code of Federal Regulations.

VII. Limitations

TEDC grant funding must be expended in accordance with applicable statutory and regulatory requirements, including 2 CFR part 200. As part of the grant application review process, DEMD may conduct a review of an applicant's prior DEMD grant award(s).

Applicants that are currently under BIA sanction Level 2 or higher resulting from non-compliance with the Single Audit Act are ineligible for a TEDC award. Applicants at Sanction Level 1 will be considered for funding.

DEMD will not usually consider funding new TEDC proposals where the applicant has open TEDC projects, granted under any previous funding cycle. The DEMD does, however, understand that delays beyond the control of the applicant sometimes occur. The DEMD will consider any explanation provided in conjunction with the new TEDC grant proposal. The explanation should describe the reasons why the previous project is delayed and successfully justify or demonstrate that the delay is at no fault of the applicant.

DEMD will accept multi-project proposals. Multi-project proposals must be submitted as one application. Multi-project proposals may contain proposals to develop and enhance both business and regulatory infrastructure. Applicants may also submit multi-project proposals in just one area, such as two separate purposes, with each proposing to develop or enhance the regulatory structure for two separate purposes. For instance, an applicant may submit a proposal for funding to form a Tribal utility authority and a separate and distinct proposal to develop a Tribal secured transactions code.

Each project in the application requires its own stand-alone proposal, budget, and designated Tribal project lead. Multi-project proposals require that the applicant submit a Tribal resolution that identifies and describes each project being proposed authorizing the Tribe to submit the proposal for a TEDC grant. Each proposal in the application will be evaluated based on its own merits as a stand-alone project. The DEMD will evaluate each individual project proposal using the same standards as those evaluated as a single-project proposal.

The purpose of TEDC grants is to increase Tribal technical capacity to manage and regulate energy resources only. TEDC awards may not be used for:

• Establishing or operating a Tribal office;

• Indirect costs or administrative costs as defined by the Federal Acquisition Regulation (FAR);

• Training;

• Purchase of equipment that is used to develop the feasibility studies, such as computers, vehicles, field gear, etc. (however, leasing of this type of equipment for the purpose of developing feasibility studies is allowed);

• Purchase of software;

• Purchase of resource assessment data;

• Legal fees;

• Application fees associated with permitting;

• Training;

• Contract negotiation fees;

• Academic research projects;

• Strategic energy plan formulation;

• Weatherization activities;

• Research and development of speculative or unproven technologies;

• Payment of fees or procurement of any services associated with energy assessment or exploration or development activity;

• Payment of Tribal salaries for employees not directly involved in conducting project specific activities and payment of salaries beyond the one-year project;

• Purchase or lease of project equipment such as computers, vehicles, field gear, etc.;

• Attending conventions or travel to foreign countries;

• Conducting studies related to meeting environmental requirements for a project development;

• Feasibility studies to identify, develop, or market energy or mineral resources; establish or expand broadband projects; evaluate economic development projects, businesses, or technologies that are addressed by IEED's Energy and Mineral Development Program (EMDP), National Tribal Broadband Grant (NTBG), and Native American Business Development Institute (NABDI) annual grant programs; and

• Any other activities not authorized by the grant award letter.

VIII. TEDC Application Guidance

All TEDC applicants must use the standard forms Application for Federal Assistance SF-424 and the Project Narrative Attachment Form. These forms can be found at www.grants.gov. A complete proposal must contain the five mandatory components as described below.

Step 1. Complete the Application for Federal Assistance SF-424

Instructions to Download the Application for Federal Assistance SF-424

1. Go to www.grants.gov.

2. Select the “forms” tab. This will open a page with a table titled “SF-424 FAMILY FORMS.”

3. Under the column “Agency Owner,” third row down, is listed, Grants.gov—Application for Federal Assistance SF-424.

4. Click on the blue PDF letters to download the three-page document.

Application for Federal Assistance SF-424 (Mandatory Component 1)

Within the Application for Federal Assistance SF-424, please complete the following sections:

• Item 8a. Applicant Information—Legal Name.

• Item 8b.

• Item 8c.

• Item 8d. Address.

• Item 8f. Name and contact information of person to be contacted on matters involving this application.

• Item 9. Select I: Indian/Native American Tribal Government (Federally Recognized).

• Item 11. CFDA Title box-Type in the numbers: 15.148.

• Item 12. Title box-Type in: Tribal Energy Development Capacity.

• Item 15. Descriptive Title of Applicant's Project. Type in short description of proposal.

• Item 21. Read certification statement. Check “agree” box.

• Authorized Representative section: Complete all boxes except “signature of authorized representative.” Be sure to type in the Tribal leader's information. Be sure to include the Tribal leader's preferred title (e.g., Governor, President, Chairman).

Save the Application for Federal Assistance SF-424 and name the file using the following format: Tribal Name TEDC Grant Application SF-424.

Example for naming the SF-424 Application for Federal Assistance file: Pueblo of Laguna TEDC Grant Application SF-424.

Step 2. Prepare the Project Narrative, Budget, Critical Information Documents, and Obtain a Tribal Resolution

Project Narrative (Mandatory Component 2)

The Project Narrative must not exceed 20 pages. At a minimum, it should include:

a. An Executive Summary that is an overview and technical summary of the project, no longer than one page, that has a description of the elements of the proposed project, reasons for the project, description of the objectives and anticipated outcomes that will result if the project were to be funded, total funding amount requested, and a designated Tribal project lead authorized to make decisions on the day-to-day grant activities.

b. The Project Objective, Technical Description, and Scope of Work. Describe the Tribe's current business and/or regulatory capacity for energy development, including regulations and other measures already in place and the extent to which they are being implemented. If the proposal is related to establishing organizational business entity structures, describe the extent to which the Tribe is capable of engaging in development or management activities, and to what extent the proposed project will increase the Tribe's capacity to manage and/or regulate its energy resources. Describe which business and/or regulatory capacities need enhancement, such as: Tribal code development, regulation or ordinance development, commercial code development, financial and revenue management, land lease management (including evaluation, negotiation, and enforcement of terms), and regulatory monitoring (Federal, State, and Tribal environmental and safety regulations). Describe how the project would assist the Tribe in developing the capacity needed to maximize the economic impact of energy or mineral resource development on Indian land, and to what extent that would affect the overall economy of the Tribe. List all previous or ongoing energy or mineral resource development capacity-building projects involving the Tribe. Describe the Tribe's motivation to implement the business or regulatory framework that would be developed or enhanced through TEDC funding. Describe project goals and objectives. Include a detailed scope of work describing the project phases and timeline, method of measurement of meeting objectives of the proposed project, and expected outcomes. Describe how and why the particular methods being applied will achieve the stated goals.

c. If the project is focused on studying the feasibility of a Tribal Utility Authority (TUA), or some other electric utility structure including micro grids, please provide a brief discussion (one page or less) that includes the following: Reason/need for chartering a TUA or micro grid formation, the relationship between the Tribe and incumbent utility, annual expenditure by the Tribe on electricity, electricity pricing ($/kWh) and/or power quality issues, utility policy issues that are hindering the Tribe from proper management of its energy assets or hindering the development of energy projects (i.e. net metering policies) and how these can potentially be overcome by a tribally owned TUA, and any other relevant information that would highlight the need for the establishment of a TUA or micro grid.

d. Describe all deliverable products that the proposed TEDC project is to generate, including all regulations, codes, ordinances or processes and procedures. Discuss the content of any planned status reports as well as the final TEDC project report.

e. Provide the resumes (with areas of expertise) of key consultants and personnel to be retained, if available, and the nature of their involvement, including their relationship to the applicant as Tribal staff, consultant, subcontractor, etc. This information may be included as an attachment to the application and will not be counted towards the 20-page limitation.

Budget SF424a and Budget Narrative (Mandatory Component 3)

Please complete the SF424a and provide a budget narrative that clearly describes all major line item grant expenditures. High ranking budgets will provide a budget narrative that correlates to the project scope of work and clearly breaks the project down into defined tasks with an associated budget line item for each task. Tasks and costs should include justification in the budget narrative.

Critical Information Page (Mandatory Component 4)

Applicants must include a critical information page that includes:

• A designated Tribal representative, who is not a consultant, (and their contact information) to oversee the project work, make authorized decisions during the course of the project, and be responsible for submitting quarterly reports and the final report, plus quarterly financial status reports;

• Verification, by statement, that the Tribe is registered in SAM.gov (https://sam.gov/SAM);

• Federal DUNS number;

• An active Automated Standard Application for Payment (ASAP) number (must be registered in ASAP with the same DUNS number—provide your recipient ID);

• Counties where the project is located; and

• Congressional District number where the project is located.

Tribal Resolution Attachment (Mandatory Component 5)

Applicants must include as an attachment to their application a Tribal resolution authorizing the submission of a FY 2020 TEDC grant application. It must be signed by authorized Tribal representative(s). The Tribal resolution must also include:

• A description of the proposed project; and

• An explicit reference to the Project Narrative being submitted.

Tribal Energy Development Organization applicants are required to have a Tribal resolution authorizing the Tribe participating in the organization to apply for this grant.

Step 3. Prepare the Project Narrative Attachment Form for Submission

Note: Mandatory components 2-5 must be submitted using the Project Narrative Attachment Form.

Instructions To download the Project Narrative Attachment Form:

• Go to www.grants.gov

• Select the “forms” tab. This will open a page within the table titled “SF-424 FAMILY FORMS.”

• Under the column “Agency Owner” three quarters down the table (52nd row), is listed, Grants.gov—Project Narrative Attachment Form.

• Click on the blue PDF letters to download the one page document.

When the applicant has successfully downloaded the Project Narrative Attachment Form, follow the next steps to upload documents:

• On the Project Narrative Attachment Form, click on the button titled “Add Project Narrative File.”

• Select the Project Narrative that you want to upload and click “open” to upload the file.

• On the same Project Narrative Attachment Form, you will find a grey button titled “Add Optional Project Narrative File.” Use this button to upload the Budget Narrative, Critical Information Page, and the Tribal Resolution as attachments.

When the applicant has completed uploading the Project Narrative and the attachments (Budget, Tribal Resolution, and Critical Information Page) to the Project Narrative Attachment Form, the applicant will save and name the file using the following format: Tribal Name TEDC Grant Attachments.

Example for naming the Project Narrative Attachment Form file: Pueblo of Laguna TEDC Grant Attachments.

Step 4. Submit the Completed TEDC Grant Proposal

Applicants must submit the Application for Federal Assistance SF-424 form and the Project Narrative Attachment Form in a single email to the email listed in the ADDRESSES section of this notice and:

• State “TEDC APPLICATION NARRATIVE AND SF-424” in the email subject line; and

• Include “Attention: Payton Batliner, Economic Development Specialist” in the first line of the email.

Applications and mandatory attachments received and date stamped after the time listed in the DATES section of this notice will not be considered by the Awarding Official. DEMD will accept applications at any time before the deadline and will send a notification of receipt to the return email address on the application package, along with a determination of whether the application is complete.

Incomplete Applications. Applications submitted without one or more of the five mandatory components described above will be returned to the applicant with an explanation. The applicant will then be allowed to correct any deficiencies and resubmit the proposal for consideration on or before the deadline. This option will not be available to an applicant once the deadline has passed.

IX. Review and Selection Process

Upon receiving a TEDC application, DEMD will determine whether the application is complete and that the proposed project does not duplicate or overlap previous or currently funded DEMD technical assistance projects. Any proposal that is received after the date and time in the DATES section of this notice will not be reviewed. If an application is not complete and the submission deadline has not passed, the applicant will be notified and given an opportunity to resubmit its application.

The DEMD Review Committee (Committee), comprised of DEMD staff, staff from other Federal agencies, and subject matter experts, will evaluate the proposals against the ranking criteria. Proposals will be evaluated using the four criteria listed below, with a maximum achievable total of 100 points.

Final award selections will be approved by the Assistant Secretary—Indian Affairs and the Associate Deputy Secretary, U.S. Department of the Interior. Applicants not selected for award will be notified in writing.

X. Evaluation Criteria

Executive Summary: 10 points. Proposals will be evaluated based on the clarity of the proposal's Executive Summary as discussed in Step 2, part A.

Project Objective, Technical Description, and Scope of Work: 35 points. This criterion will be evaluated based on the project objective, technical description and scope of work as described in Step 2, part B. The clarity of the described work and the appropriateness of the project in terms of meeting the intent and goals of the TEDC program will be evaluated.

Deliverable Products: 30 points. DEMD will rate the extent to which the expected outcome of the project meets the applicant's stated goals, based on the deliverables described. This section will be evaluated based on Step 2, part C.

Key Personnel: 25 points. The Committee understands that applicants may intend that the consultant(s) they retain to prepare the grant proposal will also conduct the feasibility study if the grant is awarded. This does not prejudice an applicant's chances of being selected as a grantee. However, the Committee will view unfavorably proposals that show little evidence of communication between the consultant(s) and the applicant or scant regard for the applicant community's unique circumstances. Facsimile applications prepared by the same consultant(s) and submitted by multiple applicants will receive particular scrutiny in this regard. DEMD will also evaluate the extent to which key personnel have the expertise to perform the functions under the scope of work, and produce quality deliverables. See Step 2, part D for more information.

XI. Transfer of Funds

DEMD's obligation under this solicitation is contingent on receipt of congressionally appropriated funds. No liability on the part of the U.S. Government for any payment may arise until funds are made available to the awarding officer for this grant and until the recipient receives notice of such availability, to be confirmed in writing by the grant officer.

All payments under this agreement will be made by electronic funds transfer through the ASAP. All award recipients are required to have a current and accurate DUNS number to receive funds. All payments will be deposited to the banking information designated by the applicant in the System for Award Management (SAM).

XII. Reporting Requirements for Award Recipients

The applicant must deliver all products and data required by the signed Grant Agreement for the proposed TEDC feasibility study project to DEMD within 30 days of the end of each quarter and 90 days after completion of the project.

DEMD requires that deliverable products be provided in both digital format and printed hard copies. Reports can be provided in either Microsoft Word or Adobe Acrobat PDF format. Spreadsheet data can be provided in Microsoft Excel, Microsoft Access, or Adobe PDF formats. All vector figures should be converted to PDF format. Raster images can be provided in PDF, JPEG, TIFF, or any of the Windows metafile formats. The contract between the grantee and the consultant conducting the TEDC-funded feasibility study must include deliverable products and require that the products be prepared in the format described above.

The contract should include budget amounts for all printed and digital copies to be delivered in accordance with the grant agreement. In addition, the contract must specify that all products generated by a consultant belong to the grantee and cannot be released to the public without the grantee's written approval. Products include, but are not limited to, all reports and technical data obtained, maps, status reports, and the final report.

In addition, this funding opportunity and financial assistance award must adhere to the following provisions:

XIII. Conflicts of Interest

Applicability

• This section intends to ensure that non-Federal entities and their employees take appropriate steps to avoid conflicts of interest in their responsibilities under or with respect to Federal financial assistance agreements.

• In the procurement of supplies, equipment, construction, and services by recipients and by sub-recipients, the conflict of interest provisions in 2 CFR 200.318 apply.

Requirements

• Non-Federal entities must avoid prohibited conflicts of interest, including any significant financial interests that could cause a reasonable person to question the recipient's ability to provide impartial, technically sound, and objective performance under or with respect to a Federal financial assistance agreement.

• In addition to any other prohibitions that may apply with respect to conflicts of interest, no key official of an actual or proposed recipient or sub-recipient, who is substantially involved in the proposal or project, may have been a former Federal employee who, within the last one (1) year, participated personally and substantially in the evaluation, award, or administration of an award with respect to that recipient or sub-recipient or in development of the requirement leading to the funding announcement.

• No actual or prospective recipient or sub-recipient may solicit, obtain, or use non-public information regarding the evaluation, award, administration of an award to that recipient or sub-recipient or the development of a Federal financial assistance opportunity that may be of competitive interest to that recipient or sub-recipient.

Notification

• Non-Federal entities, including applicants for financial assistance awards, must disclose in writing any conflict of interest to the DOI awarding agency or pass-through entity in accordance with 2 CFR 200.112, Conflicts of Interest.

• Recipients must establish internal controls that include, at a minimum, procedures to identify, disclose, and mitigate or eliminate identified conflicts of interest. The recipient is responsible for notifying the Financial Assistance Officer in writing of any conflicts of interest that may arise during the life of the award, including those that have been reported by sub-recipients.

• Restrictions on Lobbying. Non-Federal entities are strictly prohibited from using funds under this grant or cooperative agreement for lobbying activities and must provide the required certifications and disclosures pursuant to 43 CFR part 18 and 31 U.S.C. 1352.

• Review Procedures. The Financial Assistance Officer will examine each conflict of interest disclosure on the basis of its particular facts and the nature of the proposed grant or cooperative agreement, and will determine whether a significant potential conflict exists and, if it does, develop an appropriate means for resolving it.

• Enforcement. Failure to resolve conflicts of interest in a manner that satisfies the Government may be cause for termination of the award. Failure to make the required disclosures may result in any of the remedies described in 2 CFR 200.338, Remedies for Noncompliance, including suspension or debarment (see also 2 CFR part 180).

Data Availability

• Applicability. The Department of the Interior is committed to basing its decisions on the best available science and providing the American people with enough information to thoughtfully and substantively evaluate the data, methodology, and analysis used by the Department to inform its decisions.

• Use of Data. The regulations at 2 CFR 200.315 apply to data produced under a Federal award, including the provision that the Federal Government has the right to obtain, reproduce, publish, or otherwise use the data produced under a Federal award as well as authorize others to receive, reproduce, publish, or otherwise use such data for Federal purposes.

• Availability of Data. The recipient shall make the data produced under this award and any subaward(s) available to the Government for public release, consistent with applicable law, to allow meaningful third party evaluation and reproduction of the following:

o The scientific data relied upon;

o The analysis relied upon; and

o The methodology, including models, used to gather and analyze data.

XIV. Questions and Requests for DEMD Assistance

DEMD staff may provide technical consultation, upon written request by an applicant. The request must clearly identify the type of assistance sought. Technical consultation does not include funding to prepare a grant proposal, grant writing assistance, or pre-determinations as to the likelihood that a proposal will be awarded. The applicant is solely responsible for preparing its grant proposal. Technical consultation may include clarifying application requirements, confirming whether an applicant previously submitted the same or similar proposal, and registration information for SAM or ASAP.

XV. Separate Document(s)

• Application for Federal Assistance SF-424 Form

• Project Narrative Attachment Form (This form includes the Project Narrative, Budget, Tribal Resolution, and Critical Information page)

XVI. Paperwork Reduction Act

The information collection requirements contained in this notice have been reviewed and approved by the Office of Management and Budget (OMB) under the Paperwork Reduction Act, 44 U.S.C. 3504(h). The OMB control number is 1076-0177. The authorization expires on October 31, 2020. An agency may not conduct or sponsor, and you are not required to respond to, any information collection that does not display a currently valid OMB Control Number.

XVII. Authority

TEDC grants are funded through non-recurring appropriations made by the United States Congress in the Federal budget. These funds are provided on a year-to-year basis, and may or may not be provided in future years. DEMD implements the Indian Energy Resource Development Program, under the Energy Policy Act of 2005, (503(a), Aug. 8, 2005, 119 Stat. 764) to assist Indian Tribes in the development of energy resources and to further the goal of Indian self-determination. The Energy Policy Act of 2005 (25 U.S.C. 3501 et seq.) requires the Secretary to:

“establish and implement an Indian energy resource development program to assist consenting Indian Tribes and Tribal energy resource development organizations.”

It also requires the Secretary to provide development grants to Indian Tribes and Tribal energy resource development organizations for use in developing or obtaining the managerial and technical capacity needed to develop energy resources on Indian land, and to properly account for resulting energy production and revenues; and to:

“provide grants to Indian Tribes and Tribal energy resource development organizations for the use in carrying out projects to promote the integration of energy resources, and to process, use, or develop those energy resources on Indian land . . .”

Additional authorizing Statutes for the program include:

• The Snyder Act of November 2, 1921, as amended (25 U.S.C . 13, 42 Stat. 208, Pub. L. 67-85; 90 Stat. 2233, Pub. L. 94-482)

• The Indian Reorganization Act of 1934, as amended (25 U.S.C. 461 et seq., 48 Stat. 984, Pub. L. 73-383; Pub. L. 103-263)

• The Indian Self-Determination and Education Assistance Act, as amended (25 U.S.C. 450, 88 Stat. 2203, Pub. L. 93-638, Pub. L. 100-472; 102 Stat. 2285, Pub. L. 103-413)

• Indian Mineral Development Act of 1982, as amended (25 U.S.C. 2106, 86 Stat. 1940, Pub. L. 97-382)

• Umatilla Basin Project Act (16 U.S.C. 1271 et seq., Pub. L. 100-557)

• Energy Policy Act of 2005, as amended (25 U.S.C. 3501, Pub. L. 102-486; Title XXVI—The Energy Policy Act of 1992, 25 U.S.C. 2601, 106 Stat. 2776, Pub. L. 109-58; title V § 503(a), Aug. 8, 2005, 119 Stat. 764).

Tara Sweeney,
Assistant Secretary—Indian Affairs.

[FR Doc. 2020-11975 Filed 6-2-20; 8:45 am]

BILLING CODE 4337-15-P